DELAWARE RIVER BASIN COMMISSION

Notice of Commission Meeting and Public Hearing

Notice is hereby given that the Delaware River Basin Commission will hold an informational meeting and public hearing on Tuesday, March 2, 2004 and an informal conference followed by a public hearing on Wednesday, March 3, 2004. The subject of the informational meeting and hearing on March 2 will be a proposed “Resolution to Establish an Experimental Augmented Conservation Release Program for the New York City Delaware Basin Reservoirs for the Period from May 1, 2004 through May 31, 2007.” The hearing on March 3 will be part of the Commission's regular business meeting. The meetings and hearings on March 2 and 3 are open to the public and will be held at the PPL Lake Wallenpaupack Environmental Learning Center in Hawley, Pennsylvania.

The informational meeting and hearing on March 2 will begin at 2 p.m. The informational meeting will be devoted to a presentation and question-and-answer session. This meeting will last no more than one-and-one-half hours and will not become a part of the Commission's decision-making record. The hearing will begin no later than 3:30 p.m. and will consist of oral testimony for the record. No responses to the oral testimony will be offered at the hearing. Written comment on the proposal will be accepted through March 19. Instructions for submitting written comment are provided at the end of this notice. The proposed resolution is posted on the Commission's web site, http://www.drbc.state.nj.us.

The March 3 conference among the commissioners and staff will begin at 10 a.m. Topics of discussion will include: An update on development of the Water Resources Plan for the Delaware River Basin; an update on PCB TMDL matters, including activities of the TMDL Implementation Advisory Committee, development of a PCB minimization planning program, and a report on the status of the budget for the Stage 2 TMDLs for PCBs in the Delaware Estuary; discussion about a proposal to modify provisions of Resolution No. 2002-33 relating to the operation of Lake Wallenpaupack during drought watch, drought warning and drought conditions; and proposed DRBC rulemakings in 2004.

The subjects of the public hearing to be held during the 1:30 p.m. business meeting on March 3 include the dockets listed below:

1. Plumstead Township D-92-76 CP RENEWAL. An application for the renewal of a ground water withdrawal project to continue withdrawal of 2.58 million gallons (mg)/30 days to supply the applicant's public water supply distribution system from existing Wells Nos. NB-2, NB-3, and DR-1 in the Stockton and Lockatong Formations. The project is located in the North Branch Neshaminy Creek and the Pine Run Watersheds, Plumstead Township, Bucks County and located in the Southeastern Pennsylvania Ground Water Protected Area.

2. Avondale Borough Sewer Authority D-2000-66 CP. An application to upgrade and expand the applicant's 0.3 million gallons per day (mgd) secondary sewage treatment plant (STP) to provide advanced secondary treatment of 0.5 mgd. Located on the east bank of Indian Run, approximately 300 feet upstream of its confluence with the East Branch White Clay Creek in the Borough of Avondale, Chester County, Pennsylvania, the STP will continue to serve the Borough of Avondale and portions of New Garden Township, both in Chester County, Pennsylvania. Treated effluent will continue to discharge to Indian Run in the Christina River Watershed.

3. Upper Gwynedd-Towamencin Municipal Authority D-2002-29 CP. An application to rerate a 6.5 mgd STP to 7.3 mgd while continuing to provide advanced secondary treatment. The plant is located on Kriebel Road in Towamencin Township, Montgomery County, Pennsylvania near the northern tip of Worcester Township. The existing plant will continue to serve portions of Upper Gwynedd, Hatfield and Towamencin Townships. No new development is proposed, but the increased flow will enable the applicant to meet discharge permit objectives, while an infiltration and inflow (I&I) reduction program is being implemented. STP effluent will continue to be discharged to Towamencin Creek, a tributary of Skippack Creek in the Schuylkill River Watershed.

4. Pennsylvania Suburban Water Company D-2003-33 CP. An application to transfer up to 0.5 million gallons per day (mgd) (15 mg/30 days) of potable water from Downingtown Municipal Authority (DMUA) to the applicant's distribution system via a proposed interconnection. DMUA has adequate capacity to meet the applicant's needs within their existing 2.5 mgd water allocation from the East Branch Brandywine Creek, as supported by releases from Marsh Creek Reservoir. The project 0.5 mgd water transfer represents an alternative to and is proposed in lieu of the use of water supply from the applicant's previously approved Cornog Quarry project (approved under DRBC Docket No. D-98-11 CP on April 3, 2002). The proposed docket will consolidate all the applicant's sources in the UGS Northern Division distribution system, including those previously approved under Dockets Nos. D-98-11 CP and D-2002-5 CP, including the use of Kay Wells B and C on other than a seasonal basis. As a condition for approval of this docket, Dockets Nos. D-98-11 CP and D-2002-5 CP will be rescinded. The project will serve portions of East Brandywine, West Brandywine and Caln Townships, all located in Chester County, Pennsylvania.

5. East Rockhill Township D-2004-5 CP. An application for approval of a ground water withdrawal project to supply up to 5.47 mg/30 days of water for supplemental irrigation of the applicant's proposed golf course from new Wells Nos. PW-1, PW-2 and PW-3 located in the Brunswick and Lockatong Formations, and to limit the existing withdrawal from all wells to 5.47 mg/30 days. The project is located in the Tohickon-Three Mile Run Watershed in East Rockhill Township, Bucks County located in the Southeastern Pennsylvania Ground Water Protected Area.

The Commission's 1:30 p.m. business meeting on March 3 also will include: adoption of the Minutes of the January 21, 2004 business meeting; announcements; a report on Basin hydrologic conditions; a report by the executive director; and a report by the Commission's general counsel.

Draft dockets scheduled for public hearing on March 3, 2004 are posted on the Commission's Web site, http://www.drbc.net, where they can be accessed through the Notice of Commission Meeting and Public Hearing. Additional documents relating to the dockets and other items may be examined at the Commission's offices. Please contact William Muszynski at 609-883-9500 ext. 221 with any docket-related questions.

Individuals in need of an accommodation as provided for in the Americans with Disabilities Act who wish to attend the informational meeting, conference session or hearings should contact the Commission secretary directly at 609-883-9500 ext. 203 or through the Telecommunications Relay Services (TRS) at 711, to discuss how the Commission may accommodate your needs.

Written comment on the Proposed Resolution to Establish an Experimental Augmented Conservation Release Program for the New York City Delaware Basin Reservoirs for the Period from May 1, 2004 through May 31, 2007 will be accepted through March 19, 2004. Comment may be submitted by e-mail to: FisheriesDocket@drbc.state.nj.us or by U.S. Mail to: Fisheries Docket, Delaware River Basin Commission, P.O. Box 7360, West Trenton, NJ 08628-0360. Please do not send comments for the record directly to staff members or commissioners.

Dated: February 17, 2004.
Pamela M. Bush,
Commission Secretary.

[FR Doc. 04-3792 Filed 2-20-04; 8:45 am]

BILLING CODE 6360-01-P